ENVIRONMENTAL PROTECTION AGENCY

[ER-FRL-6693-7]

Environmental Impact Statements; Notice of Availability

Responsible Agency: Office of Federal Activities, General Information (202) 564-7167 or http://www.epa.gov/compliance/nepa/.

Weekly receipt of Environmental Impact Statements

Filed 11/26/2007 Through 11/30/2007

Pursuant to 40 CFR 1506.9.

EIS No. 20070506, Final EIS, AFS, CA, Phoenix Project, Proposes to Use a Combination of Contract and Forest Service Crew to Treat Poor Forest Health and High Fire Hazard Conditions, Develop a Network Defensible Fuel Profile Zones (DFPZs), Sierraville Ranger District, Tahoe National Forest, Sierra and Nevada Counties, CA, Wait Period Ends: 01/07/2008, Contact: Jeff Leach 530-994-3401 Ext 6680.

EIS No. 20070507, Final EIS, BLM, CA, Eastern San Diego County Resource Management Plan, Implementation, El Centro Field Office, San Diego County, CA, Wait Period Ends: 01/07/2008, Contact: Erin Dreyfuss 760-337-4436.

EIS No. 20070508, Draft EIS, AFS, 00, Wild and Scenic River Suitability Study for National Forest System Lands on the Ashley, Dixie, Fishlake, Manti-La Sal, Uinta and Wasatch-Cache National Forests in UT and Portion of National Forests extend into Colorado and Wyoming, several counties, UT, Montrose County, CO and Uinta County, WY, Comment Period Ends: 01/22/2008, Contact: Catherine Kahlow 435-783-4338.

EIS No. 20070509, Final EIS, FHW, SC, Interstate 73 Southern Project, Construction from I-95 to the Myrtle Beach Region, Funding, NPDES Permit, U.S. Coast Guard Permit, U.S. Army COE Section 404 Permit, Dillon, Horry and Marion Counties, SC, Wait Period Ends: 01/07/2008, Contact: Patrick Tyndall 803-765-5460.

EIS No. 20070510, Draft EIS, FHW, NJ, I-295/I76/Route 42 Direct Connection Project, To Improve Traffic Safety and Reduce Traffic Congestion, Funding and U.S. Army COE Section 10 and 404 Permits, Borough of Bellmawr, Borough of Mount Ephraim and Gloucester City, Camden County, NJ, Comment Period Ends: 02/15/2008, Contact: Lawrence Cullari 609-637-4200.

Amended Notices

EIS No. 20070332, Draft EIS, BLM, OR, Western Oregon Bureau of Land Management Districts of Salem, Eugene, Roseburg, Coos Bay, and Medford Districts, and the Klamath Falls Resource Area of the Lakeview District, Revision of the Resource Management Plans, Implementation, OR, Comment Period Ends: 01/11/2008, Contact: Dick Prather 503-808-6627 Revision of FR Notice Published 08/10/2007: Extending Comment Period from 12/10/2007 to 01/11/2008.

Dated: December 4, 2007.
Robert W. Hargrove,
Director, NEPA Compliance Division, Office of Federal Activities.

[FR Doc. E7-23820 Filed 12-6-07; 8:45 am]

BILLING CODE 6560-50-P